DEPARTMENT OF COMMERCE

National Oceanic and Atmospheric Administration

[Docket No. 020306047-2047-01; I.D. 020402E]

RIN 0648-ZB14

Mid-Atlantic Fishery Management Council (Council); Request for Research Proposals (RFP)

AGENCY: National Marine Fisheries Service (NMFS), National Oceanic and Atmospheric Administration (NOAA), Commerce.

ACTION: Notice of solicitation for applications.

SUMMARY: NMFS announces that for fishing year 2003 up to 3 percent of the total allowable landings (TAL) will be dedicated to research endeavors under a research set-aside program (RSA). This notice describes how the application and selection process for research projects to be funded under the RSA by a set-aside from the TAL of selected species will operate. The RSA provides a mechanism to fund research and compensate vessels through the sale of fish harvested under the research quota. The setting of the actual research set-aside quotas will be the subject of future rulemakings. NMFS is soliciting proposals for research activities concerning the summer flounder, scup, black sea bass, Loligo squid, Illex squid, Atlantic mackerel, butterfish, bluefish, and tilefish fisheries.

DATES: All research proposals to be considered under this solicitation must be received between March 25, 2002, and 5 p.m., EST, on May 13, 2002, in the Northeast Regional Office (see ADDRESSES). Postmarks prior to the end of the receipt period will not be sufficient. Facsimile applications will not be accepted. For further information related to the timeframe for review and selection of proposals to be conducted with research quota set-asides, see Section A, Background, under SUPPLEMENTARY INFORMATION.

ADDRESSES: Proposals must be submitted to Patricia A. Kurkul, Regional Administrator, NMFS, Northeast Regional Office, 1 Blackburn Drive, Gloucester, MA 01930. Mark proposals “Attention--Mid-Atlantic Research Proposals.” Copies of the Standard Forms for submission of research proposals may be found on the Internet in a PDF (Portable Document Format) version at http://www.ofa.noaa.gov/grants/index.html, under the title ”Grants Management Forms,” or by contacting the Council office (see FOR FURTHER INFORMATION CONTACT).

FOR FURTHER INFORMATION CONTACT: Daniel Furlong, Executive Director, Mid-Atlantic Fishery Management Council, (302) 674-2331, fax (302) 674-5399, e-mail thoff@mafmc.org or Paul H. Jones, Fishery Policy Analyst, NMFS, (978) 281-9273, fax 978-281-9135, e-mail paul.h.jones@noaa.gov.

SUPPLEMENTARY INFORMATION:

A. Background

The award of a set-aside from the TAL of selected species became possible with the approval of Framework Adjustment 1 (Framework 1) to the Council's Atlantic Mackerel, Squid, and Butterfish; Summer Flounder, Scup, and Black Sea Bass; and Bluefish Fishery Management Plans (FMPs); and the RSA provisions of the Tilefish FMP. Framework 1 was approved by the Secretary of Commerce on August 10, 2001. It established a procedure through which research set-aside amounts would be set annually as part of the Council's quota-setting process. The set-asides can range between 0 and 3 percent of each species' TAL. The set-aside allocated for a given species is to be utilized primarily for research involving that species. However, to promote research in those cases where it would otherwise be infeasible, individual research projects could involve allocations from the set-asides for several of the species listed in this notice. Therefore, in addition to applying for part of the set-aside involving a species directly involved in a research project, applicants may also apply for up to 25 percent of the research set-aside quota for species not directly involved in a particular research project.

To be eligible for consideration, a research proposal for work to be conducted using a research set-aside allocation for the 2003 fishing year must be received during the application period identified in the DATES section of this document. Applicants must submit one signed original and two signed copies of the completed application (including supporting information). Prior to selection, NOAA will convene a panel to review proposals submitted in response to this RFP.

The Council, in consultation with the Atlantic States Marine Fisheries Commission (Commission), will incorporate the level of research set-aside (percentages) for each of the set-aside species for the 2003 fishing year into the Council's annual quota specification packages. NMFS will consider the recommended level of set-aside as part of the specification rulemaking process. It is anticipated that most proposals will request that vessels conducting research be exempt from certain regulations for the relevant fishery. The impacts of such an exemption must be analyzed. To ease the burden on researchers, the Council will prepare, as appropriate, an analysis of the impacts associated with the anticipated exemptions during the annual quota specification process. This process is intended to satisfy the analytical and public notice provisions of the Exempted Fishing Permit (EFP) regulations at 50 CFR 600.745. However, certain conditions may require the applicant to provide additional analysis associated with such an exemptions (see section N of this notice).

The actual level of research set-aside quota available to researchers for the 2003 fishing year will depend on the TAL level specified by the Council at its quota-setting meetings in June and August, 2002, and on the percentage (0 to 3 percent) of the TAL established by the Council as the level of research set-aide. To help researchers develop proposals for the 2003 fishing year, the table below provides some guidance on the general magnitude of research set-asides and estimated values that a researcher might expect to be available for fishing year 2003. The table is based on TAL levels for these fisheries for the 2002 fishing year and assumes that NMFS will approve the maximum set-aside level of 3 percent of the TAL. The table is intended only as a guide to be used when developing research proposals for the 2003 fishing year. It does not necessarily reflect the actual research set-aside quota that will be allocated for fishing year 2003. Based on Council recommendation, NMFS could choose to adopt less than 3 percent of TAL as a set-aside, or could decide not to adopt any set-aside for a given fishery. The estimated values of the set-aside allocations will vary depending on market considerations prevailing at the time the research trips are conducted.

Example of 3-Percent Research Set-Asides
Allocation Species | Pounds | Kilograms | Estimated Value($)
Summer Flounder | 537,300 | 243,719 | 902,664
Scup | 186,600 | 84,642 | 236,982
Black Sea Bass | 185,100 | 83,961 | 318,372
Loligo Squid | 1,124,339 | 510,000 | 865,741
Illex Squid | 1,587,302 | 720,000 | 365,079
Atlantic Mackerel | 5,621,693 | 2,550,000 | 730,820
Butterfish | 390,013 | 176,910 | 222,307
Bluefish | 1,135,200 | 514,927 | 431,376
Tilefish | 59,850 | 27,148 | 148,428

B. Authority

Issuing grants is consistent with §§ 303(b)(11), 304(e), and 404(c) of the Magnuson-Stevens Fishery Conservation and Management Act, 16 U.S.C. 1801 et seq.

C. Catalog of Federal Domestic Assistance (CFDA)

11.454, Unallied Management Projects

D. Funding Instrument and Project Period

In consultation with NMFS, the NOAA Grants Office will award a grant to successful applicants through the NOAA grant award process. The project period for all research is January 1, 2003, through December 31, 2003. Proposals to fund research that was started prior to the project period, or that would be completed after the project period will not be considered.

E. Funding Availability

No Federal funds are provided for research under this notification. The Federal Government's contribution to the project will be an EFP or Letter of Authorization, as applicable, which will provide special fishing privileges in response to research proposals selected under this program. The Federal Government shall not be liable for any costs incurred in the conduct of the project. Any funds generated from the landings authorized under a research set-aside grant shall be used to cover the cost of the research, including vessel costs, and to compensate vessel owners for expenses incurred. Therefore, the owner of each fishing vessel selected to land a species in excess of a trip limit or seasonal quota must use the proceeds of the sale of the excess catch to compensate the researcher for costs associated with the research activities and use of the vessel.

Any additional funds above the cost of the research activities (or excess program income) shall be retained by the vessel owner as compensation for the use of his/her vessel.

F. Scope of Research

Projects funded under the research quota set-aside program should enhance understanding of the fishery resource or contribute to the body of information on which management decisions are made. Research, as well as additional voyages to obtain fish for compensation, may be conducted, as specified in the EFP or Letter of Authorization, as applicable, in or outside of a closed area, within the timeframe of a commercial quota closure, and onboard a fishing or other type of vessel, including recreational and/or commercial vessels.

Funds generated from the research quota set-aside landings shall be used to cover the cost of the research activities, including vessel costs, and to compensate boats for expenses incurred during the collection of the set-aside species. For example, the funds could be used to pay for gear modifications, monitoring equipment, additional provisions (e.g., fuel, ice, food for scientists), or the salaries of research personnel. The Federal Government is not liable for any costs incurred by the researcher or vessel owner, should the sale of the excess catch not fully reimburse the researcher or vessel owner for his/her expenses.

G. Eligibility Criteria

All commercial organizations; non-profit organizations; state, local or tribal governments; institutions of higher education; and individuals are eligible to apply, provided that all proposal requirements are satisfied and the proposal is received by the date specified in this document.

A person is not eligible to submit an application under this program if he/she is an employee of any Federal agency; a Regional Fishery Management Council; or an employee of a Council. However, Council members who are not Federal employees can submit an application.

H. Proposal Preparation and Requirements

NOAA employees (whether full-time, part-time, or intermittent) are not allowed to help in the preparation of an application, except that staff may provide you with information on program goals, funding priorities, application procedures, and completion of application forms. Since this is a competitive program, NMFS and NOAA employees will not provide assistance in conceptualizing, developing, or structuring proposals, or write letters of support for a proposal. However, the Council or NMFS contact person (see FOR FURTHER INFORMATION CONTACT) may provide assistance to researchers who are seeking vessels to participate in the collection of set-aside species or directly in research projects.

Proposals must identify the research to be conducted and the total amount of the set-aside species requested for the project, including its approximate cash value. If a waiver of Federal regulations is proposed, a list of the specific regulations to be waived and a brief justification for such a waiver must be included with the proposal.

In addition, each proposal must identify the requirements for the participating vessel(s) that would make a trip to collect the set-aside species. The vessel(s) selected by the applicant must be listed in the proposal, if possible, or specifically identified prior to final approval by NOAA. Proposals may request that the quota set-aside be collected separately from the research trip or other related research trip. The separate compensation trips do not necessarily have to be conducted by the same vessel.

The researcher's proposal must state the amount of funds required to support the research project, as well as the amount required to compensate the vessel owner either for the collection of set-aside species, or for participation in the research project, or both. The proposal must also include the agreement between the vessel owner and researcher that shows exactly how the research activity is to be paid for, if possible, or such agreement must be provided prior to final approval by NOAA.

I. Project Funding Priorities

The Council and NOAA will give priority to funding research proposals in the following areas identified as research priorities by the Council and Commission for the 2003 fishing year (not listed in order of priority):

1. Bycatch and discard reduction concerning: (a) Distinctions between regulatory discards and bycatch attributed to gear, including mesh selectivity and/or overall gear design in the summer flounder fishery; (b) gear modifications in the Loligo squid fishery to reduce scup and other species bycatch; (c) discard studies in the Loligo and scup fisheries; and (d) better estimates of recreational discards in the summer flounder, scup, black sea bass and bluefish fisheries;

2. Mesh and gear selectivity focusing on: (a) The examination of summer flounder catch composition in small-mesh net fisheries within the summer flounder small-mesh exemption area; (b) summer flounder mesh selectivity studies; (c) scup mesh selectivity; (d) squid mesh selectivity; (e) black sea bass mesh selectivity; (f) the development of threshold triggers based on gear and fishery characteristics; (g) evaluation of various pot vent sizes for black sea bass; (h) estimation of mortality of black sea bass left in pots during the closed season; (i) evaluation of fishery management actions, e.g., do closures have a net positive effect on fishing mortality by postponing such mortality, or do they simply allow for concentration of resources such that when the seasons open the consequent fishing effort offsets the mortality reductions that occurred during the closure; and (j) mesh retention studies of 2-1/2 (6.35 cm), 2-3/4 (6.985 cm), and 3-inch (7.63 cm) mesh for butterfish;

3. Fishing impacts on habitat pertaining to: (a) Mobile gear impacts on tilefish burrows; (b) scup spawning areas and scup larvae settlement areas in coastal/estuarine waters; (c) benthic habitat of juvenile and adult black sea bass, and scup offshore wintering areas; and (d) mapping of spawning areas and egg mop areas for Loligo;

4. Cooperative stock assessment surveys focusing on: (a) The use of alternative industry assessment methods to determine abundance of Atlantic mackerel; (b) the summer flounder fishery; (c) surveys for summer flounder in areas not traditionally sampled by the North East Fisheries Science Center gear; (d) side-by-side comparisons for summer flounder and scup of commercial and NEFSC survey gear; (e) better survey information for bluefish; (f) tagging studies of bluefish movements; and (g) DNA analysis for stock descriptions of Atlantic bluefish and Atlantic mackerel;

5. Improved recreational fishery data focusing on: (a) Research to enhance the overall knowledge of the recreational fishery; (b) statistical models to evaluate the effectiveness of recreational management measures and/or data collection process; (c) studies of bluefish hooking mortality by size of fish; and (d) tagging studies with break-away hooks for movement of tilefish.

6. Other: (a) Evaluation of redirection of fishing effort with area closures for black sea bass; (b) evaluation of whether artificial reefs increase the productivity of black sea bass or simply concentrate the resource; and (c) evaluation of the mixing of Illex and Loligo in September and October.

J. Evaluation Criteria

The review panel convened by NOAA to evaluate proposals submitted in response to this RFP (see section L of this notice), will evaluate proposals by assigning scores up to the maximum indicated for each of the following criteria:

1. A clear definition of the problem, need, issue or hypothesis to be addressed. The proposal should describe its relevance to RSA program priorities. If not directly related to priorities listed in this solicitation, provide justification why the proposed project should be considered (25 points);

2. Cost-effectiveness of the project. The request and value of the anticipated revenue from RSA should be commensurate with estimated project costs. Economic and budget projections must be quantified, to the extent possible. Where appropriate, use of existing equipment versus acquisition of new equipment (fishing gear) is preferred (25 points);

3. A clear definition of the approach to be used, including description of field work, theoretical studies, and laboratory analysis to support that proposed research, and the ability of the researchers to physically complete work during the 2003 calendar year can be completed in the area and time proposed. Activities that take place over a wider versus narrower geographical range, where appropriate, are preferred (25 points);

4. Demonstration of support, cooperation and/or collaboration with the fishing industry, and qualifications/ experience of project participants. Where appropriate, unified versus separate stand-alone proposals on related projects involving multiple principal investigators are preferred (15 points);

5. Identification of anticipated benefits, potential users, likelihood of success, and methods of disseminating results. Where appropriate, data format generated from the research must be consistent with NMFS’ and Atlantic Coastal Cooperative Statistical Program’s (ACCSP) databases (10 points). A copy of this format is available from NMFS (see FOR FURTHER INFORMATION CONTACT).

K. Selection Procedures

NOAA will solicit written technical evaluations from the Council members who make up the Ecosystem Planning Committee (Committee) and from three or more appropriate private and public sector experts to score proposals using the criteria specified in section J of this notification to determine the technical merit of the proposal. Following completion of the technical evaluation, NOAA will convene a review panel, including the Committee and technical experts, to review and individually critique the scored proposals to enhance NOAA's understanding of the proposals. No consensus recommendations will be made. Based on the results of the technical review, rank order based on average scores, comments provided by the review panel, and the following program policy factors, NOAA will select the successful proposals and inform the Council of its recommendations. The program policy factors are: (1) The time of year the research activities are to be conducted; (2) the ability of the proposal to meet the experimental fishery requirements discussed under Section N of this notice; and (3) redundancy of research projects. Therefore, the highest scoring projects may not necessarily be selected for an award. The selecting official will provide final approval of the projects to allow NMFS to exempt selected vessel(s) from specific regulations implementing the respective FMPs through written notification to the applicant.

For proposals that request exemptions from existing regulations (e.g., possession limits, closed seasons, etc.), the impacts of the proposed exemptions must be analyzed. The Council will analyze these impacts as part of the impacts of the proposed specifications for the upcoming fishing year in the annual quota specification packages it submits to NMFS. However, those individuals with proposals that include vessel activities that extend beyond the scope of the analysis provided by the Council may be required to provide additional analysis before issuance of an EFP will be considered (see section N). Any researchers who request regulatory exemptions that are beyond the scope of the Council analysis may be required to adhere to the regulations that govern the issuance of an EFP by NMFS (see section N). If necessary, and as appropriate, NMFS will consult with the Council and successful applicants to secure the information required for granting an exemption if issuance of an EFP is necessary for the research to be conducted. The final decision on the applicant's proposal for research quota will not be made by NOAA until NMFS advises that the applicant's EFP request is approved.

L. Proposal Format

Proposals should be limited to seven pages, excluding item 6 below. The format may vary but must include:

1. A project summary;

2. A narrative project description to include: (a) Project goals and objectives; (b) the relationship of the proposed project to management needs or priorities identified by the Council; (c) a statement of work (project design and management including who is responsible, expected products, and participants other than applicant); and (d) a summary of the existing state of knowledge related to the project and contribution and relevance of the proposed work;

3. A description of all funding sources (including revenues derived from the sale of the species harvested under the research quota set-aside) and funding needs. This element of the proposal must include the amount of research quota set-aside requested for each species and the expected funds to be generated by the sale of those species, as well as the expected percentage of funds to be allocated to the researcher and any involved fishing vessel;

4. A budget that includes a breakdown of costs, including permit costs, equipment, supplies, and overhead. Applicants must submit a Standard Form 424 (Application for Federal Assistance) including a detailed budget using Standard Form 424A, (Budget Information-- Non-Construction Programs), Standard Form 424B (Assurances - Non-Construction Programs), and Commerce Department Form CD-511, (Certifications Regarding Debarment, Suspension and Other Responsibility Matters: Drug-Free Workplace Requirements and Lobbying). Copies of these Standard Forms may be found on the Internet in a PDF version at http://www.ofa.noaa.gov/grants/index.html (Grants Management Forms;

5. A list of any Federal or state regulations that the applicant needs to have waived and a brief justification for such a waiver. Note that requests for waivers of any state regulations will be forwarded to the appropriate state agency(s). NOAA cannot guarantee that state agencies will accede to any particular request; and

6. Supporting documents including resumes, cooperative research agreements, and contracts.

M. Final Reports and Data Submission

NOAA will require project researchers to submit to NOAA, with a copy for the Council, an interim and/or final report describing their research project results, or other acceptable deliverable(s), in a timeframe that is specific to the type of research conducted. The format of the report may vary, but must contain:

1. A brief summary of the report;

2. A description of the issue/problem that was addressed;

3. A detailed description of methods of data collection and analyses;

4. A discussion of results and any relevant conclusions presented in a format that is understandable to a non-technical audience; this should include benefits and/or contributions to management decision-making;

5. A list of entities, firms, or organizations that actually performed the work and a description of how the work was accomplished; and

6. A detailed final accounting of all funds used to conduct research, including generation of project income resulting from sale of research set-aside quota. The financial information must be submitted on Office of Management and Budget Standard Form-269. Copies of this Standard Form may be found on the Internet in a PDF version at http://www.ofa.noaa.gov/grants/index.html (Grants Management Forms). Projects designed to collect new data for inclusion in NMFS' or ACCSP's databases must submit the data in electronic format with appropriate documentation. Certain databases will have highly specific requirements as to required fields and content. Researchers must agree to provide newly collected data in a format acceptable to the administrators of the receiving databases.

N. Other Requirements

The Council staff will bear the primary responsibility for the evaluations of impacts associated with the research, including analysis of any requested regulatory waivers. However, researchers proposing research and/or compensation fishing that goes beyond the scope of analysis provided by the Council staff in the Council's annual specification packages shall be required to submit a Supplemental Environmental Assessment to obtain an EFP from NMFS. Should a researcher be required to submit a request for an EFP to NMFS such submission should be received by NMFS at least 60 days before the requested start date of the proposed research to allow for additional review and analysis. A final decision on the applicant's grant request for research quota will not be made until NMFS has approved the applicant's EFP request.

O. Other Requirements of Recipients

The Department of Commerce Pre-Award Notification Requirements for Grants and Cooperative Agreements contained in the Federal Register notice of October 1, 2001 (66 FR 49917), are applicable to this solicitation. However, please note that the Department of Commerce will not implement the requirements of Executive Order 13202 (66 FR 49921), pursuant to guidance issued by the Office of Management and Budget in light of a court opinion which found that the Executive Order was not legally authorized. See Building and Construction Trades Department v. Allbaugh, 172 F. Supp. 2d 138 (D.D.C. 2001). This decision is currently on appeal. When the case is resolved, the Department will provide further information on implementation of Executive Order 13202.

P. Disposition of unsuccessful applications.

If an application is not selected, NOAA will return the proposal and related documents to the applicant.

Q. Other

Pursuant to Executive Orders 12876, 12900, and 13021, the Department of Commerce, NOAA (DOC/NOAA) is strongly committed to broadening the participation of Historically Black Colleges and Universities, Hispanic Serving Institutions, and Tribal Colleges and Universities in its educational and research programs. The DOC/NOAA vision, mission and goals are to achieve full participation by Minority Serving Institutions (MSIs) in order to advance the development of human potential, to strengthen the Nation's capacity to provide high-quality education, and to increase opportunities for MSIs to participate in, and benefit from, Federal financial assistance programs. DOC/NOAA encourages all applicants to include meaningful participation of MSIs.

DOC/NOAA supports cultural and gender diversity in our programs and encourages women and minority individuals and groups to submit applications.

DOC/NOAA encourages applications from members of the fishing community, and applications that involve fishing community cooperation and participation.

Classification

Prior notice and opportunity for public comments are not required by the Administrative Procedure Act or any other law for this notice concerning grants, benefits, and contracts (5 U.S.C. 553(a)(2)).

Because a general notice of proposed rulemaking as specified in 5 U.S.C. 533, or any other law, was not required for this action, the analytical requirements of the Regulatory Flexibility Act, 5 U.S.C. 601 et seq., are not applicable.

Applications under this program are not subject to the provisions of Executive Order 12372, “Intergovernmental Review of Federal Programs.”

This notice contains collection-of-information requirements subject to the Paperwork Reduction Act. The use of Standard Forms 269, 424, 424A, 424B, and SF-LLL have been approved by OMB under the respective control numbers 0348-0039, 0348-0043, 0348-0044, 0348-0040, and 0348-0046.

Notwithstanding any other provision of law, no person is required to respond to, nor shall any person be subject to a penalty for failure to comply with, a collection of information subject to the Paperwork Reduction Act, unless that collection displays a currently valid OMB control number.

This action has been determined to be not significant for purposes of Executive Order 12866.

Dated: March 19, 2002.
Rebecca Lent,
Deputy Assistant Administrator for Regulations National Marine Fisheries Service.

[FR Doc. 02-7134 Filed 3-22-02; 8:45 am]

BILLING CODE 3510-22-S